DEPARTMENT OF TRANSPORTATION

Federal Aviation Administration

Notice of Approval of Finding of No Significant Impact (FONSI) for Murdo Municipal Airport, Murdo, SD

AGENCY: Federal Aviation Administration (FAA), DOT.

ACTION: Notice.

SUMMARY: The FAA is announcing approval of Finding of No Significant Impact for proposed development at the Murdo Municipal Airport, Murdo, South Dakota. The FAA approved the FONSI on August 22, 2013.

SUPPLEMENTARY INFORMATION: The FONSI approved the Sponsor's proposed action to extend primary Runway 14-32 (approximately 600′ x 60′) and construct turnaround (approximately 200′ x 75′) on Runway 14 end. Extend graded safety area (approximately 200′ x 120′) on Runway 14 end. Acquire approximately 63.0 acres of land in fee and acquire approximately 2.0 acres of restrictive easements.

The approved action is to enhance the safety and utility of the airport in order to meet the needs of current and projected aviation activity by the design family. The need for the action is to bring the Murdo Municipal Airport in compliance with FAA design standards for 95% of A/B-I Small Aircraft (design aircraft family), specifically runway length.

The FONSI indicates the project is consistent with existing environmental policies and objectives as set forth in the National Environmental Policy Act (NEPA) of 1969, as amended and will not significantly affect the quality of the environment.

In reaching this decision, the FAA has given careful consideration to: (a) The role of Murdo plays in the national air transportation system, (b) aviation safety, and (c) preferences of the airport owner/operator, and (d) anticipated environmental impact.

DATES: This notice is effective September 10, 2013.

FOR FURTHER INFORMATION CONTACT: Ms. Lindsay Butler, Federal Aviation Administration, Great Lakes Regional Office, 2300 East Devon Avenue, Des Plaines, IL 60018. Telephone number: 847-294-7723.

Issued in Des Plaines, IL: August 26, 2013.
Jesse Carriger,
Manager, Planning/Programming Branch, FAA Great Lakes Region.

[FR Doc. 2013-21887 Filed 9-9-13; 8:45 am]

BILLING CODE 4910-13-P